DEPARTMENT OF THE INTERIOR

National Park Service

[NPS-WASO-NRNHL-DTS#-34155; PPWOCRADI0, PCU00RP14.R50000]

National Register of Historic Places; Notification of Pending Nominations and Related Actions

AGENCY: National Park Service, Interior.

ACTION: Notice.

SUMMARY: The National Park Service is soliciting electronic comments on the significance of properties nominated before June 25, 2022, for listing or related actions in the National Register of Historic Places.

DATES: Comments should be submitted electronically by July 20, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 25, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Boulder County

Rock Creek Farm Rural Historic District (Agricultural Resources of Boulder County MPS), 2005 South 112th St., Broomfield vicinity, MP100007966

FLORIDA

Duval County

Edward Waters College Historic District (African American Architects in Segregated Jacksonville, 1865-1965 MPS), 1658 Kings Rd., Jacksonville, MP100007972

Leon County

Jake Gaither Golf Course, 801 Bragg Drive, Tallahassee, SG100007971

Orange County

Atlantic Coast Line Station (Florida's Historic Railroad Resources MPS), 1400 Sligh Blvd., Orlando, MP100007973

HAWAII

Honolulu County

Marek, Col. C.S. and Berlinda Ku'ulei, House, 2441 Pacific Heights Rd., Honolulu, SG100007974

KENTUCKY

Jefferson County

Louisville College of Dentistry, 129 East Broadway, Louisville, SG100007975

MASSACHUSETTS

Suffolk County

South Boston Naval Annex Historic District, Roughly bounded by Boston Harbor, Dry Dock and Fid Kennedy Aves., Massport Haul Rd., Boston, SG100007976

NEW YORK

Albany County

Boardman and Gray Piano Company, 883 Broadway, Albany, SG100007951

Columbia County

Sweet Homestead, 582-614 Center Hill Rd., Copake, SG100007955

Delaware County

Fleischmann, Max and Johanna, House, 50 Fleischmanns Heights Rd., Fleischmanns, SG100007958

Genesee County

North Bergen Presbyterian Church, 7068 North Bergen Rd., Bergen vicinity, SG100007959

Greene County

Allen, Captain Joseph, House, 210 Jefferson Hts., Catskill, SG100007952

Orleans County

Fancher World War II Memorial, Southwest corner of NY 31 and Fancher Rd., Murray vicinity, SG100007953

Rensselaer County

First Presbyterian Church of Lansingburgh, 570 3rd Ave., Troy, SG100007954

Gooding Farm, 22420 NY 22, Eagle Bridge, SG100007956

Schenectady County

Schenectady Police Department, 301 Clinton St., Schenectady, SG100007961

NORTH CAROLINA

Guilford County

Pilot Life Insurance Company Home Office, 5300 High Point Rd., Greensboro, SG100007970

Mecklenburg County

Kimberlee Apartments, 1300 Reece Rd., Charlotte, SG100007968

Polk County

Waymon, Eunice, Birthplace, 30 East Livingston St., Tryon, SG100007967

Lynncote Historic District, 3316-3525 Lynn and 39 Wilderness Rds., Tryon vicinity, SG100007969

RHODE ISLAND

Newport County

St. Columba's, the Berkeley Memorial Chapel, 55 Vaucluse Ave., Middletown, SG100007963

Washington County

Wakefield Historic District (Boundary Increase), Main, High, and Robinson Sts., Wright Ave., South Kingstown, BC100007962

TENNESSEE

Grundy County

Highlander Folk School Library Building, 120 Old Highlander Ln., Monteagle, SG100007964

Knox County

Howell Nurseries, 2743 Wimpole Ave., Knoxville, SG100007965

Additional documentation has been received for the following resources:

NEW YORK

Albany County

Schuyler, Philip, Mansion (Additional Documentation), Clinton and Schuyler Sts., Albany, AD67000008

Franklin County

Magill Cottage (Additional Documentation), (Saranac Lake MPS), 74 Kiwassa Rd., Harrietstown, AD92001430

Authority: Section 60.13 of 36 CFR part 60.

Dated: June 29, 2022.
Paul Lusignan,
Acting Chief, National Register of Historic Places/National Historic Landmarks Program.

[FR Doc. 2022-14215 Filed 7-1-22; 8:45 am]

BILLING CODE 4312-52-P